POSTAL SERVICE

Notice of Meeting

AGENCY: Postal Service.

ACTION: Notice of meeting.

SUMMARY: The Postal Service will hold further meetings of a Consensus Committee to develop recommendations for revision of USPS STD 7A, which governs the design of curbside mailboxes. The committee will develop and adopt its recommendations through a consensus process. The committee will consist of persons who represent the interests affected by the proposed rule, including mailbox manufacturers, mailbox accessory manufacturers, and postal customers.

Meeting Date: The next committee meeting is tentatively scheduled for September 19, 2000.

Meeting Place: U.S. Postal Service Headquarters, 475 L'Enfant Plaza, SW., Washington, DC 20260.

FOR FURTHER INFORMATION CONTACT: Annamarie Gildea, (202) 268-3558.

SUPPLEMENTARY INFORMATION: Mail comments and all other communications regarding the committee to Annamarie Gildea, U.S. Postal Service Headquarters, 475 L'Enfant Plaza, SW., Room 7142, Washington, DC 20260. Committee documents will be available for public inspection and copying between 9 a.m. and 4 p.m. weekdays at the address above. Entry into U.S. Postal Service Headquarters is controlled. Persons wishing to attend the next meeting must send a fax to Annamarie Gildea at 202-268-5293 no later than September 12, 2000 with the person's name and organizational affiliation, if any. For additional information regarding the USPS STD 7A Consensus Committee, see Federal Register Vol 64, No. 158, p. 44681 (August 17, 1999).

Stanley F. Mires,
Chief Counsel, Legislative.

[FR Doc. 00-21542 Filed 8-22-00; 8:45 am]

BILLING CODE 7710-12-P